DEPARTMENT OF HEALTH AND HUMAN SERVICES

Administration for Children and Families

Office of Community Services; Expansion Supplements Under 2009 American Recovery and Reinvestment Act

AGENCY: Office of Community Services (OCS), ACF, HHS.

ACTION: Notice to award an expansion supplement under the American Recovery and Reinvestment Act of 2009 (ARRA) for Training and Technical Assistance (T/TA) by National Association for State Community Services Programs (NASCSP).

CFDA Number: 93.710.

Legislative Authority: The legislative authority for this grant is provided by the American Recovery and Reinvestment Act of 2009 (Pub. L. 111-5). Additional legislative authority and requirements are provided in Sections 674(b)(2)(A) and 678A of the Community Services Block Grant (CSBG) Act, as amended (42 U.S.C. 9903(b)(2)(A) and 9913).

Amount of Award: $250,000.

Project Period: August 15, 2010 through August 14, 2011.

SUMMARY: The Administration for Children and Families (ACF), Office of Community Services (OCS) has awarded an expansion supplement to National Association for State Community Services Programs (NASCSP), located in Washington, DC. The project is designed to support T/TA that strengthens the ability of the Community Action Network to comply with and carry out the programs funded by the American Recovery and Reinvestment Act of 2009 (ARRA). The project objective is to strengthen CSBG-eligible entity efforts related to benefits enrollment and coordination activities and asset development activities. It will do so by: (1) Assessing the CSBG Network's current benefits enrollment and coordination activities; (2) assessing the CSBG Network's asset development activities; and (3) identifying and promulgating exemplary practices in benefits enrollment and coordination activities and asset development activities. The project resources will promote accountability and help CSBG-eligible entities and States enhance the overall administration of ARRA-funded programs. These resources include issue briefs; congressional reports; a catalog of exemplary practices; webinars and/or conference calls; conference workshops focused on resources related to benefits enrollment and coordination activities and asset development activities; and online toolkit(s). The T/TA NASCSP will provide under this award is particularly critical at this time due to the large temporary increase in CSBG funding to CSBG-eligible entities and the need to ensure adherence to high standards of accountability and tracking of the funds and results. The activities funded by this expansion supplement expand upon prior activities provided by NASCSP under their cooperative agreement. A new grant award number will be issued to allow NASCSP to track and report separately on expenditures from funds made available by ARRA.

FOR FURTHER INFORMATION CONTACT: Danielle Williams, U.S. Department of Health and Human Services, Office of Community Services, Administration for Children and Families, 370 L'Enfant Promenade, SW., Washington, DC 20047, Telephone: (202) 205-4717, E-mail: Danielle.Williams@acf.hhs.gov.

Dated: August 26, 2010.
Yolanda J. Butler,
Acting Director, Office of Community Services.

[FR Doc. 2010-21982 Filed 9-1-10; 8:45 am]

BILLING CODE 4184-27-P